DEPARTMENT OF TRANSPORTATION

Federal Highway Administration

Agency Information Collection Activities: Submission for OMB Review

AGENCY: Federal Highway Administration (FHWA), DOT.

ACTION: Notice.

SUMMARY: The FHWA has forwarded the new information collection request described in this notice to the Office of Management and Budget (OMB) for review and comment. We published a Federal Register Notice on May 3, 2004 (69 FR 24217) with a 60-day public comment period concerning this information collection. We are required to publish this notice in the Federal Register by the Paperwork Reduction Act of 1995.

DATES: Please submit comments by December 6, 2004.

FOR FURTHER INFORMATION CONTACT: Ms. Kathleen Kendrick,202-366-2035, Office of Real Estate Services, Federal Highway Administration, Department of Transportation, 400 Seventh Street, SW., Washington, DC 20590-0001. Office hours are from 7:30 a.m. to 4:30 p.m., Monday through Friday, except Federal holidays.

SUPPLEMENTARY INFORMATION: Title: Uniform Act Focused Certification Program for Right-of-Way Professionals.

Background: FHWA proposes to conduct research to examine and report on training and certification options for right-of-way and other real estate service providers. In addition, the FHWA proposes to assess the market need for the establishment of a new certification program.

Respondents: 54 State or territory transportation agencies, 46 selected cities, counties, and private sector respondents.

Estimated Total Annual Burden: 110 hours.

Frequency: One-time survey.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

Authority: The Paperwork Reduction Act of 1995; 44 U.S.C. Chapter 35, as amended; and 49 CFR 1.48.

Issued on: October 29, 2004.
James R. Kabel,
Chief, Management Programs and Analysis Division.

[FR Doc. 04-24692 Filed 11-4-04; 8:45 am]

BILLING CODE 4910-22-P